DEPARTMENT OF COMMERCE

International Trade Administration

Export Trade Certificate of Review

ACTION: Notice of issuance of an amended Export Trade Certificate of Review to the American Sugar Alliance, Application No. 06-A0003.

SUMMARY: On August 24, 2007, The U.S. Department of Commerce issued an amended Export Trade Certificate of Review to the American Sugar Alliance (“ASA”).

FOR FURTHER INFORMATION CONTACT: Jeffrey C. Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. The regulations implementing Title III are found at 15 CFR Part 325 (2005).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

The original ASA Certificate (Application No. 06-00003) was issued on March 16, 2007 (72 FR 14081, March 26, 2007).

ASA's Export Trade Certificate of Review has been amended to:

1. Add the following company as a new “Member” of the Certificate within the meaning of section 325.2(l) of the Regulations (15 CFR 325.2(l)): Americane Sugar Refining LLC, Taylor, MI.

2. Revise the “CPA Administration” and “Information Collection and Exchange” sections found within Export Trade Activities and Methods of Operation so that these sections read as follows:

CPA Administration

The ASA will allocate all CPAs at one time. ASA may reallocate CPAs if a new Producer becomes a Member. In the event that any CPAs are returned to ASA for any reason, ASA will reallocate those CPAs among interested Producers. The allocation, and any reallocations, will be completed before December 16, 2007.

Information Collection and Exchange

ASA may ask Producers individually for their production capacity figures for 2006 for the purposes of allocating the CPAs. Producers may supply that information to ASA, and ASA may allocate and reallocate CPAs to Producers based on this information.

The effective date of the amended certificate is May 29, 2007. A copy of the amended certificate will be kept in the International Trade Administration's Freedom of Information Records Inspection Facility, Room 4001, U.S. Department of Commerce, 14th Street and Constitution Avenue, NW., Washington, DC 20230.

Dated: August 24, 2007.
Jeffrey C. Anspacher,
Director, Export Trading Company Affairs.

[FR Doc. E7-17152 Filed 8-29-07; 8:45 am]

BILLING CODE 3510-DR-P